FEDERAL ELECTION COMMISSION

[Notice 2000-11]

Computerized Magnetic Media Requirements for Presidential Committees

AGENCY: Federal Election Commission.

ACTION: Announcement of Changes to the Computerized Magnetic Media Requirements for Presidential Primary, General Election and Convention Committees.

SUMMARY: The Commission has revised its document entitled “Computerized Magnetic Media Requirements for Title 26 Candidates/Committees Receiving Federal Funding” (“CMMR”). The CMMR sets forth technical standards designed to ensure the compatibility of magnetic media provided for Commission use during the matching fund submission process and mandatory audits of these publicly-funded campaign committees.

EFFECTIVE DATE: April 13, 2000.

FOR FURTHER NFORMATION CONTACT: Rick Halter, Deputy Assistant Staff Director, or Charles Ratcliff, Data Systems Development Division; 999 E Street NW, Washington, DC 20463; (202) 694-1200 (Mr. Halter), (202) 694-1295 (Mr. Ratcliff), or (800) 424-9530 (toll free).

SUPPLEMENTARY INFORMATION: On June 21, 1990, the Federal Election Commission adopted a document entitled “Computerized Magnetic Media Requirements for Title 26 Candidates/Committees Receiving Federal Funding” (“CMMR”). The CMMR was revised on January 30, 1992 to reflect technological advances during the intervening period (see 57 FR 4453 (Feb. 5, 1992)), and again on January 11, 1996 (see 61 FR 6245 (Feb. 16, 1996)). This Notice summarizes the most recent revisions, which were adopted by the Commission on April 13, 2000 and apply to all publicly-funded committees that participate in the 2000 presidential election.

The CMMR sets forth technical standards designed to ensure the compatibility of magnetic media provided for Commission use during the matching fund submission process, which is also discussed in the Commission's “Guideline for Presentation in Good Order” (“PIGO”), and the mandatory audits of publicly-funded presidential campaign and convention committees. Each presidential candidate and convention committee must agree to maintain and provide computerized magnetic media in the format prescribed by the CMMR, if the committee maintains or uses computerized information containing any specified categories of data. See 11 CFR 9003.1(b)(4), 9008.3(a)(4)(v), and 9033.1(b)(5). The technical standards in the CMMR include general requirements for magnetic tape and magnetic diskettes, as well as file format specifications for records of receipts, including contributors, vendors, invoices, bank accounts and check files.

Until this latest revision, the CMMR included file format specifications for records of disbursements. While the same information is still required, no particular format is now specified.

The CMMR has also been revised to reflect technological advances in computer software since the 1996 revisions. It thus provides campaigns with more options than the previous version of the CMMR. The Commission continues to encourage committees to provide samples of their magnetic tape or magnetic diskettes, so that the Commission may determine whether the samples comply with the specifications established.

The CMMR is included as Appendix 2 to the Commission's Financial Control and Compliance Manual For Presidential Primary Candidates Receiving Public Financing (April 2000). It is also available from the Commission's Public Records Office or the Audit Division, and will soon be available on the Commission's web site, www.fec.gov. The Public Records Office can be reached at (800) 424-9530, extension #3 (toll free), or 202-694-1120. That Office also responds to E-mail requests at pubrec@fec.gov.

Please note that the technical requirements found in the CMMR are not intended to promote or discourage the use of any particular computer system or software. The Commission believes that committees should have as much discretion as possible in selecting the computer equipment they wish to use, determining what types of financial records and information should be computerized, and deciding how the computerized information is maintained. However, committees are expected to present this financial information to the Commission in the format specified in the CMMR.

Dated: May 17, 2000.
Darryl R. Wold,
Chairman, Federal Election Commission.

[FR Doc. 00-12775 Filed 5-19-00; 8:45 am]

BILLING CODE 6715-01-P